FEDERAL COMMUNICATIONS COMMISSION

[CC Docket Nos. 96-262, 94-1, 99-249, 96-45; DA 07-1001]

Reconsideration of CALLS Order

AGENCY: Federal Communications Commission.

ACTION: Notice.

SUMMARY: This document requests that parties that filed petitions for reconsideration of a 2000 Commission order adopting rules applicable to price cap local exchange carriers file supplemental notices indicating whether they wish to pursue any issues in those petitions. Subsequent court decisions and Commission actions may have mooted the issues in those petitions for reconsideration.

DATES: Supplemental notices due April 20, 2007, and comments due May 7, 2007.

ADDRESSES: Filings should be mailed to the Commission's Secretary through the Commission's contractor, Natek, Inc., at 236 Massachusetts Avenue, NE., Suite 110, Washington, DC 20002.

FOR FURTHER INFORMATION CONTACT: Victoria Goldberg, Wireline Competition Bureau, Pricing Policy Division, (202) 418-1530, jennifer.mckee@fcc.gov.

SUPPLEMENTARY INFORMATION: Pursuant to the Commission's rules governing petitions for reconsideration, 47 CFR 1.106, the Wireline Competition Bureau (the Bureau) invites interested parties to update the record pertaining to petitions for reconsideration filed with respect to the CALLS Order, 65 FR 38684, June 21, 2000.

After the Commission released the CALLS Order on May 31, 2000, four parties filed petitions for reconsideration of that order. These petitions were filed by the Association for Local Telecommunications Services (ALTS) and Focal Communications Corp., One Call Communications, Inc., Pathfinder Communications, Inc., and the Texas Office of Public Utility Counsel. The Commission addressed the petition filed by One Call Communications, Inc. in a subsequent order, 68 FR 43327, July 22, 2003, and the Texas Office of Public Utility Counsel withdrew its petition on July 27, 2000.

Since these petitions were filed, there has been a court of appeals decision and additional Commission orders addressing the rules adopted in the CALLS Order, including a decision by the United States Court of Appeals for the Fifth Circuit, an order on remand, 68 FR 50077, August 20, 2003, and an order on reconsideration, 68 FR 43327, July 22, 2003. Issues raised in the pending petitions for reconsideration may therefore have become moot or outdated. As a result, it is not clear whether issues arising out of the CALLS Order, if any, remain in dispute. In addition, the reform proposal adopted in the CALLS Order has reached the end of its five-year term and the Commission is developing a record on comprehensive intercarrier compensation reform in CC Docket No. 01-92 and on regulation of special access services in WC Docket No. 05-25. Because the petitions for reconsideration were filed several years ago, the passage of time and intervening developments may have rendered the records developed by those petitions stale.

For these reasons, the Bureau requests that parties that filed petitions for reconsideration of the CALLS Order now file a supplemental notice indicating those issues that they still wish to be reconsidered. Petitioners may include with the supplemental notices any new information or arguments they believe to be relevant to deciding only those issues that they previously raised in their petitions for reconsideration. The refreshed record will enable the Commission to consider what action may be appropriate in this proceeding.

Parties may file supplemental notices updating their previously filed petitions for reconsideration no later than April 20, 2007, with the Secretary, FCC, 445 12th Street, SW., Washington, DC 20554. Oppositions or responses to these filings may be filed with the Secretary, FCC, no later than May 7, 2007. All pleadings are to reference CC Docket Nos. 96-262, 94-1, 99-249, 96-45. All pleadings may be filed using the Commission's Electronic Comment Filing System (ECFS) or by filing paper copies. For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). Parties are strongly encouraged to file comments electronically using the Commission's ECFS.

All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington, DC 20554.

All filings must be addressed to the Commission's Secretary, Marlene H. Dortch, Office of the Secretary, Federal Communications Commission, Room TW-A325, 445 12th Street, SW., Washington, DC 20554. Parties should also send a copy of their filings to Victoria Goldberg, Pricing Policy Division, Wireline Competition Bureau, Federal Communications Commission, Room 5-A266, 445 12th Street, SW., Washington, DC 20554, or by e-mail to victoria.goldberg@fcc.gov. Parties shall also serve one copy with the Commission's copy contractor, Best Copy and Printing, Inc. (BCPI), Portals II, 445 12th Street, SW., Room CY-B402, Washington, DC 20554, (202) 488-5300, or via e-mail to fcc@bcpiweb.com.

The original petitions for reconsideration filed by the parties in CC Docket Nos. 96-262, 94-1, 99-249, 96-45 are available for public inspection and copying during business hours at the FCC Reference Information Center, Portals II, 445 12th St. SW., Room CY-A257, Washington, DC 20554. The documents may also be purchased from BCPI, telephone (202) 488-5300, facsimile (202) 488-5563, TTY (202) 488-5562, e-mail fcc@bcpiweb.com. These documents may also be viewed on the Commission's Web site at http://www.fcc.gov/cgb/ecfs. People with Disabilities: To request materials in accessible formats for people with disabilities (braille, large print, electronic files, audio format), send an e-mail to fcc504@fcc.gov or call the Consumer & Governmental Affairs Bureau at (202) 418-0530 (voice), (202) 418-0432 (tty).

This matter shall be treated as a “permit-but-disclose” proceeding in accordance with the Commission's ex parte rules, 47 CFR 1.1200 et seq. Persons making oral ex parte presentations are reminded that memoranda summarizing the presentations must contain summaries of the substance of the presentations and not merely a listing of the subjects discussed. More than a one- or two-sentence description of the views and arguments presented generally is required. Other requirements pertaining to oral and written presentations are set forth in section 1.1206(b) of the Commission's rules, 47 CFR 1.1206(b).

Federal Communications Commission.
Kirk S. Burgee,
Chief of Staff, Wireline Competition Bureau.

[FR Doc. E7-5078 Filed 3-20-07; 8:45 am]

BILLING CODE 6712-01-P